DEPARTMENT OF STATE

[Public Notice 4928]

Meeting of the Advisory Committee on Cultural Diplomacy

SUMMARY: The Department of State Advisory Committee on Cultural Diplomacy will meet January 10, 2005 at 11 a.m. in Room 840, Department of State, Bureau of Educational and Cultural Affairs, 301 4th Street, SW., Washington, DC.

Members of the press and general public may attend, although attendance will be limited by seating availability. Access to Department of State buildings is strictly controlled, and individual building passes are required for all attendees. To confirm attendance at the meeting, please call (202) 203-7488. Members of the public who have confirmed their attendance must present a photo ID at the time they enter the Department of State and will be escorted to the meeting room.

The Advisory Committee on Cultural Diplomacy is responsible for advising the Secretary of State on programs and policies to advance the use of cultural diplomacy in United States foreign policy. This charge includes providing to the Secretary guidance on increasing the presentation abroad of the finest of U.S. creative, visual, and performing arts, as well as strategies for increasing public-private partnerships to sponsor cultural exchange programs that promote the national interests of the United States. An agenda for the Committee session will be distributed at the meeting.

Dated: December 20, 2004.
Daniel Schuman,
Chief, Cultural Programs Division, Office of Citizen Exchanges, Bureau of Educational and Cultural Affairs, Department of State.

[FR Doc. 04-28392 Filed 12-27-04; 8:45 am]

BILLING CODE 4710-05-P